DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a proposed revised information collection. In accordance with the Paperwork Reduction Act of 1995, this notice seeks comments concerning information required by FEMA to amend or revise National Flood Insurance Program (NFIP) Maps to remove certain property from the 1-percent annual chance floodplain.

SUPPLEMENTARY INFORMATION: With the passage of the Flood Disaster Protection Act of 1973, an owner of a structure, with a federally backed mortgage, located in the 1-percent annual chance floodplain, was required to purchase federal flood insurance. This was in response to the escalating damage caused by flooding and the unavailability of flood insurance from commercial insurance companies. As part of this effort, FEMA mapped the 1-percent annual chance floodplain in communities. However, due to scale limitations, individual structures that may be above the base flood cannot always be shown as being out of the 1-percent annual chance floodplain. FEMA will issue a Letter of Map Amendment (LOMA) or a Letter of Map Revision—Based on Fill (LOMR-F) to waive the Federal requirement for flood insurance when data is submitted to show that the property or structure is “reasonably safe from flooding” and at or above the elevation of the base flood. Requestors can check on the status of their Letter of Map Amendment (LOMA), Letter of Map Revision Based on Fill (LOMR-F), Conditional Letter of Map Amendment (CLOMA), and Conditional Letter of Map Revision Based on Fill (CLOMR-F) request by visiting FEMA's Mapping Information Platform Web site at https://hazards.fema.gov.

Collection of Information

Title: Revisions to National Flood Insurance Program Maps: Application Forms and Instructions for (C)LOMAs and (C)LOMR-Fs.

Type of Information Collection: Revision of a currently approved collection.

OMB Number: 1660-0015.

Form Numbers: FEMA Forms 81-87, 81-87A, 81-87B.

Abstract: The certification forms (referred to as MT-1 series forms) are designed to assist requesters in gathering information that the FEMA needs to determine whether a certain property is likely to be flooded during a flood event that has a one-percent annual chance of being equaled or exceeded in any given year (base flood). FEMA Form 81-87, Property Information, describes the location of the property, what is being requested, and what data are required to support the request. FEMA Form 81-87A, Elevation Information, indicates what the Base (one-percent annual chance) Flood Elevation (BFE) for the property is, how the BFE was determined, the lowest ground elevation on the property, and/or the elevation of the lowest adjacent grade to any structures on the property. This information is required in order for FEMA to determine if the property that the requester would like removed from the Special Flood Hazard Area (SFHA) is at or above the BFE. FEMA Form 81-87B, Community Acknowledgment, requires that a community official certify that the request complies with minimum floodplain management criteria specified in 44 CFR 60.3, as per NFIP regulations 44 CFR 65.5(a)(4).

Affected Public: Individuals or households, business or other for-profit organizations, and state and local or tribal government.

Estimated Total Annual Burden Hours: 58,150.

Annual Burden Hours
Project/activity (survey, form(s), focus group, worksheet, etc.) | Number of respondents: (A) | Frequency of responses: (B) | Burden hours per respondent: (C) | Annual responses: (D) = (A×B) | Total annual burden hours: (E) = (C×D)
Form 81-87, Property Information Form (Homeowners/Representatives of Homeowner) | 18,272 | Annual (1) | 1.63 | 18,272 | 29,783
Form 81-87A, Elevation Form (Surveyors/Engineers) | 18,272 | Annual (1) | 1.25 | 18,272 | 22,840
Form 81-87B, Community Acknowledgment Form (Community Officials) | 3,389 | Annual (1) | 1.38 | 3,389 | 4,677
On-line LOMA/LOMR-F Tutorial (Homeowners) | 1,700 | Annual (1) | 0.5 | 1,700 | 850
Total | 41,633 |  | 4.76 | 19,972* | 58,150
* The total number of annual responses represents the total number of collection packages received. Estimated number of collection packages received in a given year is 19,972.

Estimated Cost: Cost to respondents is estimated to be $1,258,199 annually.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before August 24, 2007.

ADDRESSES: Interested persons should submit written comments to Chief, Records Management and Privacy, Information Resources Management Branch, Information Technology Services Division, Federal Emergency Management Agency, 500 C Street, SW., Room 609, Washington, DC 20472.

FOR FURTHER INFORMATION CONTACT: Contact Ms. Cecelia Lynch, FEMA, Federal Insurance and Mitigation Administration at (202) 646-7045 for additional information. You may contact the Records Management Branch for copies of the proposed collection of information at facsimile number (202) 646-3347 or e-mail address: FEMA-Information-Collections@dhs.gov.

Dated: June 13, 2007.
John A. Sharetts-Sullivan,
Chief, Records Management and Privacy, Office of Management Directorate, Information Technology Services Division, Information Resources Management Branch, Federal Emergency Management Agency, Department of Homeland Security.

[FR Doc. E7-12200 Filed 6-22-07; 8:45 am]

BILLING CODE 9110-11-P